DEPARTMENT OF DEFENSE

Department of the Navy

[Docket ID: USN-2022-HQ-0033]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by August 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy Child and Youth Programs Forms; OPNAV Forms 1700/1-1700/3, 1700/5, 1700/7-1700/9, 1700/11-1700/15, and 1700/17-1700/23; OMB Control Number 0703-NCYP.

Type of Request: Existing collection in use without an OMB Control Number.

Registration Forms

Number of Respondents: 17,152.

Responses per Respondent: 5.25.

Annual Responses: 90,059.

Average Burden per Response: 43.57 minutes.

Annual Burden Hours: 65,395.

Medical Forms

Number of Respondents: 19,054.

Responses per Respondent: 1.

Annual Responses: 19,054.

Average Burden per Response: 44.86 minutes.

Annual Burden Hours: 14,246.

Family Child Care Forms

Number of Respondents: 325.

Responses per Respondent: 1.

Annual Responses: 325.

Average Burden per Response: 62.4 minutes.

Annual Burden Hours: 338.

Fee Assistance Forms

Number of Respondents: 11,750.

Responses per Respondent: 1.

Annual Responses: 11,750.

Average Burden per Response: 45 minutes.

Annual Burden Hours: 8,813.

Total

Annual Burden Hours: 88,792.

Number of Respondents: 48,281.

Annual Responses: 121,188.

Needs and Uses: Navy Child and Youth Programs (CYP) collects information in order to facilitate accurate and efficient operation of all programs and activities as part of fulfilling CYP's mission to provide services to eligible patrons. Numerous forms are used by patrons to complete the enrollment/registration process to enroll children and youths into CYP programs and activities, establish patron fees, determine the general health status of CYP participants and ensure that all their needs are documented. Information is also collected to allow for the application and certification of family childcare providers, as well as to determine patron and provider eligibility for participation in Navy CYP fee assistance programs.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: July 19, 2023.
Aaron T. Siegel,
Alternate OSD Federal Register Liaison Officer, Department of Defense.

[FR Doc. 2023-15795 Filed 7-25-23; 8:45 am]

BILLING CODE 5001-06-P